DEPARTMENT OF ENERGY

Federal Energy Regulatory Commission

[Project No. 2558-029]

Central Vermont Public Service Corporation; Notice of License Application Amendment

Take notice that the following hydroelectric application amendment has been filed with the Commission and is available for public inspection. The amendment became effective upon completion of the license transfer from Vermont Marble Power Division of Omya Inc., to Central Vermont Public Service Corporation on September 2, 2011.

a. Application Type: License Application Amendment for a New Major License.

b. Project No.: P-2558-029.

c. Date Filed: August 1, 2011.

d. Applicant: Central Vermont Public Service Corporation.

e. Name of Project: Otter Creek Hydroelectric Project.

f. Location: The existing project is located on Otter Creek in Addison and Rutland counties, Vermont. The project does not affect federal lands.

g. Filed Pursuant to: Federal Power Act, 16 U.S.C. 791(a)-825(r) .

h. Applicant Contact: Mike Scarzello, Generation Asset Manager, Central Vermont Public Service Corporation, 77 Grove Street, Rutland, VT 05701; Telephone: (802) 747-5207.

i. FERC Contact: Aaron Liberty, Telephone (202) 502-6862, and email aaron.liberty@ferc.gov.

j. The application amendment is not ready for environmental analysis at this time.

k. Project Description: The existing Otter Creek Project consists of three developments with a combined installed capacity of 18.1 megawatts (MW). The project produces an average annual generation of 67,258 megawatt-hours. The energy from the project will be used to serve Central Vermont's retail customers.

The Proctor development, located at river mile 64.2, consists of the following facilities: (1) An existing 13-foot-high, 128-foot-long dam with a 3-foot-high inflatable flashboard system; (2) an existing 92-acre reservoir with a storage capacity of 275 acre-feet at a normal maximum water surface elevation of 469.5 feet above mean sea level (msl); (3) a gated-forebay intake structure approximately 14 feet deep by 115 feet long with a maximum width of 48 feet; (4) two intakes with two penstocks: a 9-foot-diameter, 460-foot-long, riveted steel penstock that decreases to 8 feet in diameter, and a 7-foot-diameter, 500-foot-long, spiral welded steel penstock; (5) an original concrete and brick masonry powerhouse measuring 100 by 33 feet containing four vertical shaft turbines: three 750-kilowatt (kW) units and one 1,680-kW unit with a combined maximum hydraulic capacity of 565 cubic feet per second (cfs); (6) an additional steel structure measuring 28 by 48 feet attached to the original powerhouse containing one 3,000-kW vertical shaft unit with a maximum hydraulic capacity of 325 cfs; (7) generator leads; (8) a 0.48/4.16-kilovolt (kV) single phase transformer; (9) a 0.48/46-kV step-up transformer; (10) three winding transformer banks; and (11) appurtenant facilities.

The Beldens development, located at river mile 23, consists of the following facilities: (1) Two existing concrete dams on either side of a ledge/bedrock island with 2.5-foot-high wooden flashboards: a 15-foot-high, 56-foot-long dam (west) and a 24-foot-high, 57-foot-long dam (east); (2) an existing 22-acre reservoir with a storage capacity of 253 acre-feet at a normal maximum water surface elevation of 282.52 feet msl; (3) two intakes equipped with trashracks: a 79-foot-long intake and a 35-foot-long intake with a 95-foot-long sluiceway; (4) a 12-foot-diameter, 30-foot-long steel penstock that bifurcates into two 10-foot-diameter sections, each leading to an original powerhouse; (5) a 12-foot-diameter, 45-foot-long concrete penstock that leads to a newer powerhouse; (6) an original concrete and masonry powerhouse measuring 40 by 44 feet containing a 800-kW vertical shaft unit and 949-kW vertical shaft unit with a combined maximum hydraulic capacity of 650 cfs; (7) a second, newer concrete powerhouse measuring 40 by 75 feet containing a 4,100-kW vertical shaft unit with a maximum hydraulic capacity of 1,350 cfs; (8) generator leads; (9) a 2.4/46-kV step-up transformer bank; and (10) appurtenant facilities.

The Huntington Falls development, located at river mile 21, consists of: (1) An existing 31-foot-high, 187-foot-long concrete dam with a 2.5-foot-high inflatable flashboard system; (2) an existing 23-acre reservoir with a storage capacity of 234 acre-feet at a normal maximum water surface elevation of 218.1 feet msl; (3) two intakes equipped with trashracks: a 40-foot-long intake and a 24-foot-long intake; (4) three penstocks: two 10-foot-diameter, 30-foot-long steel penstocks leading to an original powerhouse, and a 12-foot-diameter, 75-foot-long concrete penstock leading to a newer powerhouse; (5) an original brick masonry powerhouse measuring 42 by 60 feet containing a 600-kW vertical shaft unit and a 800-kW vertical shaft unit with a combined maximum hydraulic capacity of 660 cfs; (6) a second, newer powerhouse measuring 40 by 75 feet containing a 4,100-kW vertical shaft unit with a maximum hydraulic capacity of 1,350 cfs; (7) generator leads; (8) a 2.4/46-kV step-up transformer bank; and (9) appurtenant facilities.

Currently, the Proctor development operates in a modified run-of-river mode, with infrequent diversions at the direction of the Independent System Operator—New England, while the Beldens and Huntington Falls developments operate in a run-of-river mode. The Proctor development currently provides a continuous downstream minimum flow of 100 cfs or inflow to the development, whichever is less, with minimum flows from April through mid-June equal to at least 50 percent of project inflows. A bypassed reach minimum flow of 5 cfs is currently released at the Beldens development through an opening in the flashboards along the west dam. A bypassed reach minimum flow of 15 cfs is currently released at the Huntington Falls development via a minimum flow gate at the right abutment of the dam.

Central Vermont proposes several physical changes to existing project facilities at the Proctor and Huntington Falls developments. At the Proctor development, Central Vermont proposes to: (1) Realign the intake headworks, such that the existing structure and components (sluice gate, trashracks, and/or headgates) will be modified with the entrance widened and deepened to reduce significant head losses through the intake structure; (2) install a new runner at Unit 1; replace Units 2-4 with new turbine/generators; and install new electrical switchgear, breakers, controls, and relays, resulting in an increase in nameplate capacity from 6,930 kW to a preliminary estimated design of 9,240 kW, and an increase in the existing hydraulic capacity from 890 cfs to approximately 1,150 cfs; and (3) improve station access by constructing a permanent bridge to enable the Proctor development capacity improvements.

At the Huntington Falls development, Central Vermont proposes to: (1) Upgrade Units 1 and 2, resulting in an increase in nameplate capacity from 5,500 kW to a preliminary estimated design of 6,725 kW, and an increase in the existing hydraulic capacity from 2,010 cfs to approximately 2,250 cfs; and install new switchgear, breakers, control and relays and (2) replace the current Unit 3 trashrack configuration of 2-inch, clear spaced bars at a 45 degree angle to river flow with 3.5-inch-spaced racks, at a 90 degree angle to river flow, resulting in clear spacing of 3 inches.

Central Vermont proposes operational changes to existing project operations at the Proctor development. Central Vermont proposes to eliminate the existing 4-foot drawdown of the reservoir surface, with the exception of infrequent emergency operations and maintenance, and to implement a cycling operation that would utilize a 1.5-foot drawdown/refill cycle between June 16 and March 31, provided that the existing downstream minimum flow requirement during refill of at least 100 cfs is maintained. Central Vermont also proposes to refrain from conducting reservoir drawdowns during the period of April 1 to June 15, when Proctor will be operating in a run-of-river mode. In addition, peaking constraints would be utilized under normal operations of no greater than a 4.5:1 ratio between maximum and minimum flow in a 24-hour period.

Central Vermont is also proposing to alter the existing bypassed reach minimum flows at the Proctor and Beldens developments. At the Proctor development, Central Vermont is proposing to provide a continuous bypassed reach minimum flow of 54 cfs, and to provide the remainder of the existing 100-cfs minimum tailrace flow through the powerhouse. At the Beldens development, Central Vermont is proposing to provide a 10-cfs minimum flow in both the east and west channels.

Central Vermont is also proposing the following environmental measures: (1) Improve and enhance the existing take-out for the canoe portage around the Beldens dam; (2) formalize and enhance the tailwater access site at the Proctor development; and (3) provide expanded public recreational use of the site adjacent to the Proctor development's penstock that would provide viewing opportunities with interpretive signage for public education about the historic Vermont Marble buildings and local cultural history.

l. Locations of the Application Amendment: A copy of the application amendment is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may register online at http://www.ferc.gov/docs-filing/esubscription.asp to be notified via email of new filings and issuances related to this or other pending projects. For assistance, contact FERC Online Support.

m. Procedural Schedule: The application amendment will be processed according to the following revised Hydro Licensing Schedule. Revisions to the schedule may be made as appropriate.

Milestone | Target date
Issuance of additional information request | December 2011.
Filing of requested additional information | March 2012.
Re-issue Notice of Ready for Environmental Analysis | March 2012.
Issue single EA | September 2012.

n. Final amendments to the application must be filed with the Commission no later than 30 days from the issuance date of this notice.

Dated: November 18, 2011.
Kimberly D. Bose,
Secretary.

[FR Doc. 2011-30375 Filed 11-23-11; 8:45 am]

BILLING CODE 6717-01-P